DEPARTMENT OF COMMERCE

Foreign-Trade Zones Board

[S-65-2013]

Approval of Subzone Status, Parapiezas Corporation, Cataño, Puerto Rico

On May 9, 2013, the Executive Secretary of the Foreign-Trade Zones (FTZ) Board docketed an application submitted by the Puerto Rico Trade & Export Company, grantee of FTZ 61, requesting subzone status subject to the existing activation limit of FTZ 61 on behalf of Parapiezas Corporation. Pursuant to an application amendment in October 2013, the subzone would consist of one site in Cataño, Puerto Rico.

The amended application was processed in accordance with the FTZ Act and Regulations, including notices in the Federal Register inviting public comment (78 FR 28800, 5-16-2013; 78 FR 75332, 12-11-2013). The FTZ staff examiner reviewed the amended application and determined that it meets the criteria for approval.

Pursuant to the authority delegated to the FTZ Board's Executive Secretary (15 CFR Sec. 400.36(f)), the amended application to establish Subzone 61P is approved, subject to the FTZ Act and the Board's regulations, including Section 400.13, and further subject to FTZ 61's 1,821.07-acre activation limit.

Dated: August 6, 2015.
Andrew McGilvray,
Executive Secretary.

[FR Doc. 2015-19709 Filed 8-10-15; 8:45 am]

BILLING CODE 3510-DS-P